DEPARTMENT OF COMMERCE

Foreign-Trade Zones Board

[B-22-2017]

Foreign-Trade Zone (FTZ) 167—Brown County, Wisconsin, Notification of Proposed Production Activity, Polaris Industries, Inc., (Spark-Ignition Internal Combustion Engines), Osceola, Wisconsin

Polaris Industries, Inc. (Polaris), operator of Subzone 167B, submitted a notification of proposed production activity to the FTZ Board for its facility in Osceola, Wisconsin. The notification conforming to the requirements of the regulations of the FTZ Board (15 CFR 400.22) was received on April 4, 2017.

Polaris already has authority to produce spark-ignition internal combustion engines to equip snowmobiles, all-terrain vehicles, and motorcycles within Subzone 167B. The current request would add finished spark-ignition internal combustion engines for on-road vehicles and foreign status components to the scope of authority. Pursuant to 15 CFR 400.14(b), FTZ activity would be limited to the specific foreign-status components and specific finished products described in the submitted notification (as described below) and subsequently authorized by the FTZ Board.

Production under FTZ procedures could exempt Polaris from customs duty payments on the foreign-status components used in export production. On its domestic sales, Polaris would be able to choose the duty rates during customs entry procedures that apply to spark-ignition internal combustion engines for snowmobiles, all-terrain vehicles, motorcycles and on-road vehicles (duty rate 2.5%) for the foreign-status inputs noted below and in the existing scope of authority. Customs duties also could possibly be deferred or reduced on foreign-status production equipment.

The components sourced from abroad include: Engine housings/covers; covers for crankcases; valve parts; oil sump covers; valve covers; oil pans; tensioners; oil inlets; pump shaft gears; shafts; pump covers; oil inlet screens; torque limiter gears; starter assembly components; rotary switches; motorcycle sprockets; cam chain guides; motorcycle assembly covers; rotors; sprockets; screws of steel; gaskets of steel; gears for engines; switches; seals of plastic; gaskets of rubber; chains; bolts of steel; nuts of steel; brackets/mountings/fittings; valves; adapter hubs; oil pump caps; rocker covers; cam drives; cam drive blades; cam drive covers; oil pumps; water pump covers; oil pump parts; water pump parts; air box assemblies; oil filter adapters; air box adapters; engine thermostats; thermostat housings; needle roller bearings; camshafts; engine shafts; rod bearings; gears; flywheels; stator assemblies; chain sprockets; crankshaft sleeves; seals; alternators; alternator parts; fixed guides; thermostat covers; cam drive kits; brand emblems; clutch spacers; and, actuators (duty rate ranges from free to 8.5%).

Public comment is invited from interested parties. Submissions shall be addressed to the Board's Executive Secretary at the address below. The closing period for their receipt is May 24, 2017.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Christopher Wedderburn at Chris.Wedderburn@trade.gov or (202) 482-1963.

Dated: April 10, 2017.
Andrew McGilvray,
Executive Secretary.

[FR Doc. 2017-07579 Filed 4-13-17; 8:45 am]

BILLING CODE 3510-DS-P